INTERNATIONAL TRADE COMMISSION

[Investigation 332-414]

Agency Form Submitted for OMB Review

AGENCY: United States International Trade Commission.

ACTION: In accordance with the provisions of the Paperwork Reduction Act of 1995 (44 U.S.C. Chapter 35), the Commission has submitted a request for review and clearance of a questionnaire to the Office of Management and Budget (OMB). The Commission has requested OMB approval of this submission by July 5, 2000.

EFFECTIVE DATE: June 16, 2000.

PURPOSE OF INFORMATION COLLECTION: The questionnaire is for use by the Commission in connection with investigation No. 332-414, Competitive Assessment of the U.S. Large Civil Aircraft Aerostructures Industry, instituted under the authority of section 332(g) of the Tariff Act of 1930 (19 U.S.C. 1332(g)). This investigation was requested by the House Committee on Ways and Means (the Committee). The Commission expects to deliver the results of its investigation to the Committee by June 13, 2001.

SUMMARY OF PROPOSAL:

(1) Number of forms submitted: 1.

(2) Title of form: U.S. Producers Questionnaire—Competitive Assessment of the U.S. Large Civil Aircraft Aerostructures Industry.

(3) Type of request: new.

(4) Frequency of use: single data gathering (scheduled for 2000).

(5) Description of respondents: U.S. firms that produce aerostructures.

(6) Estimated number of respondents: 12.

(7) Estimated total number of hours to complete the forms: 240.

(8) Information obtained from the form that qualifies as confidential business information will be so treated by the Commission and not disclosed in a manner that would reveal the individual operations of a firm.

Additional Information or Comment

Copies of the form and supporting documents may be obtained from Peder Andersen (USITC, telephone no. (202) 205-3388). Comments about the proposal should be directed to the Office of Management and Budget, Office of Information and Regulatory Affairs, Room 10102 (Docket Library), Washington, DC 20503, ATTENTION: Docket Librarian. All comments should be specific, indicating which part of the questionnaire is objectionable, describing the concern in detail, and including specific suggested revisions or language changes. Copies of any comments should be provided to Robert Rogowsky, Director, Office of Operations, U.S. International Trade Commission, 500 E Street S.W., Washington, D.C. 20436, who is the Commission's designated Senior Official under the Paperwork Reduction Act.

Hearing impaired individuals are advised that information on this matter can be obtained by contacting our TDD terminal (telephone no. 202-205-1810). General information concerning the Commission may also be obtained by accessing its Internet server (http://www.usitc.gov).

Issued: June 16, 2000.
By order of the Commission.
Donna R. Koehnke,
Secretary.

[FR Doc. 00-15692 Filed 6-21-00; 8:45 am]

BILLING CODE 7020-02-P